NUCLEAR REGULATORY COMMISSION

Sunshine Act Meeting

Dates: Weeks of April 12, 19, 26, May 3, 10, 17, 2004.

Place: Commissioners' Conference Room, 11555 Rockville Pike, Rockville, Maryland.

Status: Public and closed.

Matters to be Considered:

Week of April 12, 2004

Tuesday, April 13, 2004

9:30 a.m. Briefing on Status of Office of Nuclear Regulatory Research (RES) Programs, Performance, and Plans (Public Meeting) (Contact: Alan Levin, 301-415-6656).

This meeting will be webcast live at the Web address— http://www.nrc.gov.

Week of April 19, 2004—Tentative

Therea re no meetings scheduled for the Week of April 19, 2004.

Week of April 26, 2004—Tentative

Wednesday, April 28, 2004

9:30 a.m. Discussion of Security Issues (Closed—Ex. 1)

Week of May 3, 2004—Tentative

Tuesday, May 4, 2004

9:30 a.m. Briefing on Results of the Agency Action Review Meeting (Public Meeting) (Contact: Bob Pascarelli, 301-415-1245).

This meeting will be webcast live at the Web address— http://www.nrc.gov.

Thursday, May 6, 2004

1:30 p.m. Meeting with Advisory Committee on Reactor Safeguards (ACRS) (Public Meeting) (Contact: John Larkins, 301-415-7360).

This meeting will be webcast live at the Web address— http://www.nrc.gov.

Week of May 10, 2004—Tentative

Monday, May 10, 2004

1:30 p.m. Briefing on Grid Stability and Offsite Power Issues (Public Meeting) (Contact: Cornelius Holden, 301-415-3036).

This meeting will be webcast live at the Web address— http://www.nrc.gov.

Tuesday, May 11, 2004

9:30 a.m. Briefing on Status of Office of International Programs (OIP) Programs, Performance, and Plans (Public Meeting) (Contact: Ed Baker, 301-415-2344).

This meeting will be webcast live at the Web address— http://www.nrc.gov.

1:30 p.m. Briefing on Threat Environment Assessment (Closed—Ex. 1).

Week of May 17, 2004—Tentative

There are no meetings scheduled for the Week of May 17, 2004.

* The scheduled for Commission meetings is subject to change on short notice. To verify the status of meetings call (recording)—(301) 415-1292. Contact person for more information: Dave Gamberoni, (301) 415-1651.

SUPPLEMENTARY INFORMATION: By a vote of 3-0 on April 1, the Commission determined pursuant to U.S.C. 552b(e) and § 9.107(a) of the Commission's rules that “Discussion of Security Issues (Closed—Ex. 1)” be held April 7, and on less than one week's notice to the public.

* * * * *

The NRC Commission Meeting Schedule can be found on the Internet at http://www.nrc.gov/what-we-do/policy-making/schedule.html.

* * * * *

This notice is distributed by mail to several hundred subscribers; if you no longer wish to receive it, or would like to be added to the distribution, please contact the Office of the Secretary, Washington, DC 20555 (301-415-1969). In addition, distribution of this meeting notice over the Internet system is available. If you are interested in receiving this Commission meeting schedule electronically, please send an electronic message to dkw@nrc.gov.

Dated: April 8, 2004.
Dave Gamberoni,
Office of the Secretary.

[FR Doc. 04-8419 Filed 4-9-04; 9:24 am]

BILLING CODE 7590-01-M